DEPARTMENT OF VETERANS AFFAIRS

Veterans' Advisory Committee on Rehabilitation, Notice of Meeting

The Department of Veterans Affairs (VA) gives notice under Public Law 92-463 (Federal Advisory Committee Act) that a meeting of the Veterans' Advisory Committee on Rehabilitation will be held on May 8-9, 2012, in Room 1046 at the Department of Veterans Affairs, 810 Vermont Avenue NW., Washington, DC. The sessions will be begin at 8 a.m. each day and adjourn at 5 p.m. on May 8 and at noon on May 9. The meeting is open to the public.

The purpose of the Committee is to provide advice to the Secretary on the rehabilitation needs of Veterans with disabilities and on the administration of VA's rehabilitation programs.

During the meeting, the Committee will receive briefing updates on various VA programs designed to enhance the rehabilitative potential of recently-discharged Veterans. Members will also begin consideration of potential recommendations to be included in the Committee's next annual report.

No time will be allocated at this meeting for oral presentations from the public. Interested parties should provide written comments for review by the Committee to Mrs. Teri Nguyen, Designated Federal Officer, VA, Veterans Benefits Administration (28), 810 Vermont Avenue NW., Washington, DC 20420, or via email at Teri.Nguyen1@va.gov. In the communication with the Committee, writers must identify themselves and state the organization, association or person(s) they represent. Individuals who wish to attend the meeting should contact Ms. Nguyen at (202) 461-9634.

Dated: April 24, 2012.
By Direction of the Secretary.
Vivian Drake,
Committee Management Officer.

[FR Doc. 2012-10171 Filed 4-26-12; 8:45 am]

BILLING CODE P